DEPARTMENT OF HEALTH AND HUMAN SERVICES

Centers for Medicare & Medicaid Services

[Document Identifier: CMS-10495 and CMS-855S]

Agency Information Collection Activities: Proposed Collection; Comment Request

AGENCY: Centers for Medicare & Medicaid Services, HHS.

ACTION: Notice; partial withdrawal.

SUMMARY: On Tuesday, August 5, 2025, the Centers for Medicare & Medicaid Services (CMS) published a notice document entitled, “Agency Information Collection Activities: Proposed Collection; Comment Request”. That notice invited public comments on five separate information collection requests, under Document Identifiers: CMS-10495, CMS 855S and CMS-R-131. Through the publication of this document, we are withdrawing the portion of the notice requesting public comment on the information collection request titled, “Data Collection and Submission for Open Payments” Form number: CMS-10495 (OMB control number: 0938-1237). We are also withdrawing the portion of the notice requesting public comment on the information collection titled, “Medicare Enrollment Application: Durable Medical Equipment, Prosthetics, Orthotics, and Supplies (DMEPOS) Suppliers.” Form number: CMS-855S (OMB control number: 0938-1056.

DATES: The original comment period for the document that published on August 5, 2025, remains in effect and ends October 6, 2025.

SUPPLEMENTARY INFORMATION: In FR document, 2025-14828, published on August 5, 2025 (90 FR 37515), we are withdrawing item 1 “Registration, Attestation, Dispute Resolution and Correction, Assumptions Document and Data Retention Requirements for Open Payments” which begins at the top of the left column on page 37516. We are also withdrawing item 2 “Medicare Enrollment Application—Durable Medical Equipment, Prosthetics, Orthotics and Supplies (DMEPOS) Suppliers,” which begins at the top of the middle column on page 37516.

William N. Parham, III,
Director, Division of Information Collections and Regulatory Impacts, Office of Strategic Operations and Regulatory Affairs.

[FR Doc. 2025-16572 Filed 8-28-25; 8:45 am]

BILLING CODE 4120-01-P